DEPARTMENT OF ENERGY

Federal Energy Regulatory Commission

Combined Notice of Filings

Take notice that the Commission has received the following Natural Gas Pipeline Rate and Refund Report filings:

Filing Instituting Proceedings

Docket Numbers: RP17-306-000.

Applicants: Columbia Gas Transmission, LLC.

Description: Columbia Gas Transmission, LLC submits tariff filing per 154.204: CCRM 2017 to be effective 2/1/2017.

Filed Date: 12/30/16.

Accession Number: 20161230-5026.

Comments Due: 5 p.m. ET 1/11/17.

Docket Numbers: RP17-307-000.

Applicants: Enable Gas Transmission, LLC.

Description: Enable Gas Transmission, LLC submits tariff filing per 154.204: Negotiated Rate Filing— January 2017 Entergy Arkansas 1008791 to be effective 1/1/2017.

Filed Date: 12/30/16.

Accession Number: 20161230-5029.

Comments Due: 5 p.m. ET 1/11/17.

Docket Numbers: RP17-313-000.

Applicants: Texas Eastern Transmission, LP.

Description: Texas Eastern Transmission, LP submits tariff filing per 154.204: Non-Conforming Agreement—EQT Energy—Contract 910900 to be effective 1/1/2017.

Filed Date: 12/30/16.

Accession Number: 20161230-5067.

Comments Due: 5 p.m. ET 1/11/17.

Docket Numbers: RP17-314-000.

Applicants: Dominion Cove Point LNG, LP.

Description: Dominion Cove Point LNG, LP submits tariff filing per 154.204: DCP—December 30, 2016 Negotiated Rate Agreement and Administrative Change to be effective 1/1/2017.

Filed Date: 12/30/16.

Accession Number: 20161230-5117.

Docket Numbers: RP17-315-000.

Applicants: Equitrans, L.P.

Description: Equitrans, L.P. submits tariff filing per 154.204: Negotiated Capacity Release—1/1/2017 to be effective 1/1/2017.

Filed Date: 1/3/17.

Accession Number: 20170103-5031.

Comments Due: 5 p.m. ET 1/17/17.

Docket Numbers: RP17-316-000.

Applicants: Gulf South Pipeline Company, LP.

Description: Gulf South Pipeline Company, LP submits tariff filing per 154.204: Cap Rel Neg Rate Agmt (Atlanta 8438 to various eff 1-1-17) to be effective 1/1/2017.

Filed Date: 1/3/17.

Accession Number: 20170103-5049.

Comments Due: 5 p.m. ET 1/17/17.

Docket Numbers: RP17-317-000.

Applicants: Gulf South Pipeline Company, LP.

Description: Gulf South Pipeline Company, LP submits tariff filing per 154.204: Cap Rel Neg Rate Agmt (PH 41455 to Texla 47548) to be effective 1/1/2017.

Filed Date: 1/3/17.

Accession Number: 20170103-5050.

Comments Due: 5 p.m. ET 1/17/17.

Docket Numbers: RP17-318-000.

Applicants: Gulf South Pipeline Company, LP.

Description: Gulf South Pipeline Company, LP submits tariff filing per 154.204: Cap Rel Neg Rate Agmt (Encana 37663 to Texla 47549) to be effective 1/1/2017.

Filed Date: 1/3/17.

Accession Number: 20170103-5051.

Comments Due: 5 p.m. ET 1/17/17.

Docket Numbers: RP17-319-000.

Applicants: Rockies Express Pipeline LLC.

Description: Rockies Express Pipeline LLC submits tariff filing per 154.204: Neg Rates 2017-1-3 BP, CP, Encana to be effective 1/1/2017.

Filed Date: 1/3/17.

Accession Number: 20170103-5184.

Comments Due: 5 p.m. ET 1/17/17.

Docket Numbers: RP17-320-000.

Applicants: Texas Gas Transmission, LLC.

Description: Texas Gas Transmission, LLC submits tariff filing per 154.204: Negotiated Rate Agmt (Castleton Comm 35873) to be effective 1/1/2017.

Filed Date: 1/4/17.

Accession Number: 20170104-5018.

Comments Due: 5 p.m. ET 1/17/17.

Docket Numbers: RP17-321-000.

Applicants: Tennessee Gas Pipeline Company, L.L.C.

Description: Tennessee Gas Pipeline Company, L.L.C. submits tariff filing per 154.204: Volume No. 2—Neg Rate Agmt—Sequent Energy SP311522 & Noble SP316649 to be effective 11/1/2016.

Filed Date: 1/4/17.

Accession Number: 20170104-5091.

Comments Due: 5 p.m. ET 1/17/17.

Docket Numbers: RP17-322-000.

Applicants: Golden Triangle Storage, Inc.

Description: Golden Triangle Storage, Inc. submits tariff filing per 154.204: Non-Conforming Firm Wheeling Service Agreement—January 2017 to be effective 3/1/2017.

Filed Date: 1/4/17.

Accession Number: 20170104-5092.

Comments Due: 5 p.m. ET 1/17/17.

Docket Numbers: RP17-323-000.

Applicants: El Paso Natural Gas Company, L.L.C.

Description: El Paso Natural Gas Company, L.L.C. submits tariff filing per 154.601: Non Conforming Negotiated Rate Agreement Update (Pioneer Jan 2017) to be effective 1/6/2017.

Filed Date: 1/5/17.

Accession Number: 20170105-5003.

Comments Due: 5 p.m. ET 1/17/17.

Docket Numbers: RP17-324-000.

Applicants: Anadarko Energy Services Company, Alta Marcellus Development, LLC.

Description: Joint Petition of Anadarko Energy Services Company and Alta Marcellus Development, LLC for Temporary Waivers of Capacity Release Regulations, Request for Shortened Comment Period and Expedited Treatment under RP17-324.

Filed Date: 1/4/17.

Accession Number: 20170104-5157.

Comments Due: 5 p.m. ET 1/11/17.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2017.
Nathaniel J. Davis, Jr.,
Deputy Secretary

[FR Doc. 2017-01916 Filed 1-27-17; 8:45 am]

BILLING CODE 6717-01-P